ENVIRONMENTAL PROTECTION AGENCY

[FRN-8277-7]

Workshop on Assessment of Health Science for the Review of the NAAQS for Nitrogen (NOx) and Sulfur Oxides (SOx)

AGENCY: Environmental Protection Agency.

ACTION: Notice of workshop.

SUMMARY: The Environmental Protection Agency (EPA) is announcing that a workshop on Assessment of Health Science for the Review of the National Ambient Air Quality Standards (NAAQS) for Nitrogen (NOX) and Sulfur Oxides (SOX) is being organized by EPA's National Center for Environmental Assessment (NCEA), in conjunction with the Office of Air Quality Standards (OAQPS), and will be held on February 26-28, 2007. The workshop will be open to attendance by interested public observers. Space is limited, and reservations will be accepted on a first-come, first-served basis.

DATES: The workshop will be held on February 26-28, 2007.

FOR FURTHER INFORMATION CONTACT: For information regarding registration and logistics for the workshop please contact Kristin Wheeler, SAIC Conference Coordinator at 703-318-4535, facsimile: 703-318-4755, e-mail: wheelerkr@saic.com, or 11251 Roger Bacon Drive, Reston, VA 20190. For information regarding the scientific and technical aspects of the workshop please contact Dr. Anu Mudipalli at 919-541-0413, facsimile: 919-541-1818, e-mail: Mudipalli.anu@epa.gov or Dr. Paul Reinhart at 919-541-1456, facsimile: 919-541-1818, e-mail: reinhart.paul@epa.gov.

SUPPLEMENTARY INFORMATION:

I. Summary of Information About the Workshop/Document

The U.S. Clean Air Act requires EPA to carry out periodic reviews of the NAAQS for major “criteria” air pollutants and to retain or revise the NAAQS for a given pollutant, as appropriate. EPA recently instituted a number of changes to the NAAQS review process to help improve the EPA the efficiency of the process while ensuring that EPA's decisions on the NAAQS are informed by the best science available. As part of the NAAQS reviews NCEA, within EPA's Office of Research and Development (ORD), will assess newly available scientific information in Integrated Science Assessment (ISA) documents (formerly known as Criteria Documents). The ISA will be supported by a more detailed and comprehensive Science Assessment Support Document (SASD). The assessments in these documents will provide the scientific basis for the reviews of the NAAQS. EPA's OAQPS will prepare risk and exposure assessment analyses, as appropriate, drawing upon the scientific evidence summarized in the ISA. Subsequently, the EPA will prepare a policy assessment that discusses, in part, the findings of the science and risk/exposure assessments related to the adequacy of the standards and describes a range of options for revising or retaining the NAAQS.

NCEA is holding this workshop to inform the Agency's assessment process of the existing scientific evidence for the review of the NAAQS for the criteria pollutants NOX and SOX. The workshop will address various issues involved in the preparation of the draft material for the ISA and SASD and issues involved in the integration of health evidence from both animal and human toxicology and epidemiology studies, along with key information from atmospheric science and exposure studies. This workshop is planned to help ensure that the SASD provides an up-to-date, state of the art scientific basis for the review of the NAAQS for these criteria pollutants. Workshop discussions will be focused on identifying and integrating policy relevant health findings in the ISA and for future risk and exposure analyses.

A second workshop will be announced in the next several months to discuss environmental effects related to the review of the NAAQS for NOX and SOX and the preparation of the draft ISA.

Dated: February 5, 2007.
George Alapas,
Director, National Center for Environmental Assessment.

[FR Doc. E7-2183 Filed 2-8-07; 8:45 am]

BILLING CODE 6560-50-P